ENVIRONMENTAL PROTECTION AGENCY

[FRL-8494-8]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held November 27-29, 2007 at RESOLVE, Washington, DC. The CHPAC was created to advise the Environmental Protection Agency on science, regulations, and other issues relating to children's environmental health.

DATES: The CHPAC will meet on Tuesday, November 27th, Wednesday, November 28th, and Thursday, November 29, 2007 at RESOLVE.

ADDRESSES: RESOLVE, 1255 23rd Street, NW., Suite 275 Washington, DC.

FOR FURTHER INFORMATION CONTACT: Carolyn Hubbard, Child and Aging Health Protection Division, USEPA, MC 1107A, 1200 Pennsylvania Avenue, NW., Washington, DC 20460, (202) 564-2189, hubbard.carolyn@epa.gov.

SUPPLEMENTARY INFORMATION: The meetings of the CHPAC are open to the public. The CHPAC plenary will meet on Tuesday November 27th from 1 p.m. to 4:30 p.m., Wednesday November 28th from 9 a.m. to 5:45 p.m., and Thursday, November 29th from 9 a.m. to 12:30 p.m. The Task Group will meet Tuesday, November 27th from 4:45 to 6 p.m. Agenda items include orientation for new CHPAC members, discussion and next steps from the NAAQS for Lead and EPA Framework to Determine a Mutagenic Mode of Action Task Groups, and a presentation on EPA Climate Change Activities. Draft agenda attached.

Access and Accommodations: For information on access or services for individuals with disabilities, please contact Carolyn Hubbard at 202-564-2189 or hubbard.carolyn@epa.gov. To request accommodation of a disability, please contact Carolyn Hubbard preferably at least 10 days prior to the meeting, to give EPA as much time as possible to process your request.

Dated: November 8, 2007.
Carolyn Hubbard,
Designated Federal Official.

U.S. Environmental Protection Agency

CHILDREN'S HEALTH PROTECTION ADVISORY COMMITTEE RESOLVE

1255 23rd St, NW. Suite 275, Washington, DC 20037, (202) 944-2300.

November 27-29, 2007.

Draft Agenda

Tuesday, November 27th

CHPAC Plenary Session

1-1:50 Welcome, Member Introductions, and Review of Meeting Agenda

1:50-2 Introduce Acting Office Director and Staff

2-3:15 Orientation to the CHPAC

3:15-3:30 Break

3:30-4:30 EPA Framework to Determine a Mutagenic Mode of Action

4:30 Adjourn Plenary for the Day

4:45-6 Mutagenicity Framework Task Group

Wednesday, November 28, 2007

CHPAC Plenary Session Continued

9-9:10 Check In and Agenda Review

9:10-9:55 Highlights of Recent EPA Activities

9:55-10:10 Break

10:10-11:10 National Ambient Air Quality Standard (NAAQS) for Lead

11:10-12:30 EPA Framework to Determine a Mutagenic Mode of Action

12:30-2:30 LUNCH (on your own)

2:30-3:45 EPA Framework to Determine a Mutagenic Mode of Action

3:45-5:15 Discussion of Children's Environmental Health Issues

5:15-5:45 Public Comment

5:45 Adjourn for the Day

Thursday, November 29, 2007

CHPAC Plenary Session Continued

9-9:05 Check In and Agenda Review

9:05-10 Pediatric Environmental Health Specialty Units (PEHSU) Program

10-10:15 Break

10:15-11 EPA Plans, Policies, and Activities to Address Climate Change

11-12 EPA Framework to Determine a Mutagenic Mode of Action

12-12:20 Near Term CHPAC Priorities

12:20-12:30 Wrap Up/Next Steps

12:30 Adjourn Plenary

[FR Doc. E7-22236 Filed 11-13-07; 8:45 am]

BILLING CODE 6560-50-P